DEPARTMENT OF LABOR

Comment Request: Survey of Employer Policies on the Employment of People With Disabilities

AGENCY: Office of the Assistant Secretary for Policy, Chief Evaluation Office, Department of Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995. This program helps to ensure that requested data can be provided in the desired format, reporting burden (time and financial resources) is minimized, collection instruments are clearly understood, and the impact of collection requirements on respondents is properly assessed. Currently, the Department of Labor is soliciting comments concerning the collection of data about the Survey of Employer Policies on the Employment of People with Disabilities. A copy of the proposed Information Collection Request (ICR) can be obtained by contacting the office listed in the addressee section of this notice.

DATES: The OMB will consider all written comments that the agency receives on or before July 24, 2017.

ADDRESSES: You may submit comments by either one of the following methods: Email: ChiefEvaluationOffice@dol.gov; Mail or Courier: Juston Locks, Office of Disability Employment Policy, U.S. Department of Labor, 200 Constitution Avenue NW., Room S-1303 Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION: Contact Juston Locks by email at chiefevaluationoffice@dol.gov.

SUPPLEMENTARY INFORMATION:

I. Background

The Chief Evaluation Office (CEO) of the U.S. Department of Labor in partnership with the Office of Disability Employment Policy (ODEP) seeks to conduct a Survey of Employer Policies on the Employment of People with Disabilities to examine employer perceptions of their efforts to employ individuals with disabilities. Knowing this information will enhance the ability of ODEP to engage employers on how to hire, retain and promote individuals with disabilities. ODEP has the ability to reach out to employers through its public education campaigns and technical assistance centers, as well as engage the business community directly. Assessing employer attitudes towards hiring and retaining individuals with disabilities will allow ODEP to better understand employer successes and concerns, as well as more effectively share best practices in hiring, retaining, and promoting individuals with disabilities. This study will answer research questions with regard to current employer practices and attitudes towards employment of people with disabilities (`disability employment'); barriers and facilitators of disability employment; the impact of accommodations and technology on employer perceptions and attitudes towards disability employment; and sources of disability employment-related information for employers.

To answer the research questions, the study will include three data collection strategies: (1) A telephone survey with employers; (2) case studies with representatives of six companies; and (3) qualitative interviews with supervisors from companies with disability employment experience.

This Federal Register Notice provides the opportunity to comment on proposed data collection instruments that will be used in the study:

• Employer Survey (n=4,800). Westat will contact each sampled HR managers to complete a 20-minute computer-assisted telephone interview (CATI). This survey will cover topics such as company policies and practices on disability employment, successes and challenges of disability employment, information on employment policies and best practices, and the use of technology and accommodations.

• Case Studies (n=120). Westat will conduct six site visits at companies demonstrating experience with disability employment. Westat will interview individuals from a sample across the spectrum of involvement in disability employment, including: Human Resource (HR) managers, hiring managers, disabled employees, colleagues of disabled employees, and senior leadership tasked with creating diversity and inclusion policy. Westat will conduct approximately 20 interviews per case study, with each interview lasting between 20-30 minutes.

• Qualitative Interviews with HR Managers (n=90). Westat will purposefully select a subsample of employers with significant experience with disability employment and interview mid-level managers from those companies to collect more in-depth information. These interviews will cover questions about the employer's current practices and attitudes towards employment of people with disabilities; barriers and facilitators towards disability employment; accommodations and technology available for employees with disabilities; and information flow about disability employment. These interviews will last approximately 30 minutes.

II. Review Focus

Currently, the Department of Labor is soliciting comments concerning the above data collection for a study of employer policies and practices on the employment of people with disabilities. DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

At this time, DOL is requesting clearance for the SEED Implementation Evaluation Survey.

Type of Review: New Information Collection.

OMB Control Number: 1230-0NEW.

Title: Survey of Employer Policies on the Employment of People with Disabilities.

Estimated Total Burden Hours—Survey of Employer Policies on the Employment of People With Disabilities
Respondents | Total number of respondents | Number of responses per respondent | Total annual responses | Average burden hours per response | Total annual burden hours
Telephone Survey | 4,800 | 1 | 1,600 | .33 | 533.33
Case Study | 120 | 1 | 40 | .50 | 20
Qualitative Interviews | 90 | 1 | 30 | .50 | 15
Total | 5,010 |  | 1,670 |  | 568.33

Affected Public: Approximately 5,010 respondents will be contacted to participate in this data collection, including hiring managers; HR managers; employees with disabilities; colleagues of employees with disabilities; and diversity/inclusion officers.

Annual Frequency: One time.

Comments submitted in response to this comment request will be summarized and/or included in the request for Office of Management and Budget approval of the information collection request; they will also become a matter of public record.

Dated: April 28, 2017.
Molly Irwin,
Chief Evaluation Officer, U.S. Department of Labor.

[FR Doc. 2017-10503 Filed 5-22-17; 8:45 am]

BILLING CODE 4510-HX-P